DEPARTMENT OF TRANSPORTATION

Federal Motor Carrier Safety Administration

[Docket No. FMCSA-2000-7918]

Qualification of Drivers; Exemption Applications; Vision

AGENCY: Federal Motor Carrier Safety Administration (FMCSA), DOT.

ACTION: Notice of applications for exemption from the vision standard; request for comments.

SUMMARY: This notice announces the FMCSA's receipt of applications from 65 individuals for an exemption from the vision requirements in the Federal Motor Carrier Safety Regulations (FMCSRs). If granted, the exemptions will enable these individuals to qualify as drivers of commercial motor vehicles (CMVs) in interstate commerce without meeting the vision standard prescribed in 49 CFR 391.41(b)(10).

DATES: Comments must be received on or before December 4, 2000.

ADDRESSES: Mail or hand deliver comments to the U.S. Department of Transportation, Dockets Management Facility, Room PL-401, 400 Seventh Street, SW., Washington, DC 20590, or submit electronically at http://dmses.dot.gov/submit. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: For information about the vision exemptions in this notice, Ms. Sandra Zywokarte, Office of Bus and Truck Standards and Operations, (202) 366-2987; for information about legal issues related to this notice, Mr. Joe Solomey, Office of the Chief Counsel, (202) 366-1374, FMCSA, Department of Transportation, 400 Seventh Street, SW., Washington, DC 20590. Office hours are from 7:45 a.m. to 4:15 p.m., e.t., Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the office of the Federal Register's home page at: http://www.nara.gov/fedreg and the Government Printing Office's database at: http://www.access.gpo.gov/nara.

Background

Sixty-five individuals have requested an exemption from the vision requirement in 49 CFR 391.41(b)(10), which applies to drivers of CMVs in interstate commerce. Under 49 U.S.C. 31315 and 31136(e), the FMCSA may grant an exemption for a renewable 2-year period if it finds “such exemption would likely achieve a level of safety that is equivalent to, or greater than, the level that would be achieved absent such exemption.” Accordingly, the agency will evaluate the qualifications of each applicant to determine whether granting the exemptions will achieve the required level of safety.

Qualifications of Applicants

1. Henry Ammons, Jr.

Mr. Ammons, age 52, has had amblyopia in his right eye since childhood. His best corrected visual acuity is 20/20 in his left eye and 20/200 in his right eye. Mr. Ammons was examined in 2000, and his optometrist stated, “In my opinion, this man has sufficient vision to perform the driving tasks required to operate a commercial vehicle.” In his application, Mr. Ammons reported that he has driven straight trucks for 1 year, accumulating 30,000 miles, and tractor-trailer combination vehicles for 31 years, accumulating 3.1 million miles. He holds a Washington Class A commercial driver's license (CDL). His official driving record for the last 3 years shows no accidents and one speeding violation in a CMV. He exceeded the speed limit by 10 mph.

2. Wayne A. Anderson

Mr. Anderson, 52, has amblyopia in his left eye. His best corrected visual acuity is 20/20 in his right eye and 20/100 in his left eye. Mr. Anderson was examined in 1999, and his ophthalmologist stated, “I think his level of vision at this stage is sufficient to operate [a] commercial vehicle.” Mr. Anderson stated that he has driven tractor-trailer combinations for 33 years, accumulating 2.6 million miles. He holds a Manitoba, Canada Class 1 license. His official driving record for the last 3 years shows no accidents and no convictions for moving violations in a CMV.

3. Glenn A. Babcock, Jr.

Mr. Babcock, 64, has a partial thickness hole at the left macula due to injury at age 4 or 5. The visual acuity of his right eye is 20/15-1 best-corrected, and of his left eye, 20/80 not correctable. His optometrist examined him in 1999, and stated, “I believe that Mr. Glen Babcock, Jr has sufficient vision to perform the tasks required to operate a commercial motor vehicle.” Mr. Babcock reported that he has driven straight trucks for 15 years and 30,000 miles; tractor-trailer combinations for 35 years and 2.1 million miles; and buses for 5 years and 15,000 miles. He holds a Wisconsin Class ABC CDL, and has no accidents or convictions for moving violations in a CMV on his driving record for the last 3 years.

4. Bobby J. Beall

Mr. Beall, 28, is aphakic in his left eye as a result of treatment for injuries sustained in 1994. His visual acuity is 20/20+ in the right eye, and 20/400 in the left eye. His optometrist examined him in 2000 and stated, “In my opinion, you have sufficient vision to perform the driving tasks required to operate a commercial vehicle.” Mr. Beall reported that he has driven straight trucks for the last 10 years, accumulating 100,000 miles, and tractor-trailer combination vehicles for the last 6 years, accumulating 90,000 miles. He holds a Class A CDL from Missouri and has no accidents or convictions for moving violations in a CMV on his driving record for the past 3 years.

5. Robert D. Bonner

Mr. Bonner, 51, has amblyopia in his right eye. His visual acuity in his left eye is 20/20 and in his right eye 20/200 best-corrected. He was examined in 2000, and his ophthalmologist stated, “I certify that he has sufficient vision to perform driving tasks and to operate a commercial vehicle.” Mr. Bonner stated that he has driven tractor-trailer combination vehicles for 19 years, accumulating 790,000 miles. He holds a Washington Class A CDL. His official driving record shows no accidents and no moving violations in a CMV in the last 3 years.

6. James F. Bower

Mr. Bower, 62, has amblyopia in his right eye. His best-corrected visual acuity is 20/20 in the left eye and 20/200 in the right eye. In 2000 his optometrist examined him and affirmed, “In my medical opinion, Jim Bower has sufficient vision to perform the normal driving tasks required to operate a commercial vehicle.” Mr. Bower submitted that he has 25 years experience driving tractor-trailer combinations over 3 million miles, and 46 years driving straight trucks over 46,000 miles. He holds a Class A CDL from Wyoming. His driving record for the last 3 years has no accidents or convictions for moving violations in a CMV.

7. Ben T. Brown

Mr. Brown, 50, has congenital esotropia of the left eye. His best-corrected visual acuity is 20/20 in his right eye and 20/200 in his left eye. He was examined in 1999 and his optometrist stated, “I feel that this patient can perform his duties as a commercial driver without difficulty. He has sufficient vision to be a safe driver.” Mr. Brown reported that he has driven straight trucks for 5 years, accumulating 35,000 miles, and tractor-trailer combinations for 19 years, accumulating 855,000 miles. He holds a California Class A CDL and has no accidents or citations for moving violations in a CMV on his driving record for the past 3 years.

8. Terry L. Burgess

Mr. Burgess, 51, wears a prosthesis due to enucleation following a motor vehicle accident in the early 1970's. His corrected vision in the right eye is 20/25. An optometrist examined him in 2000 and stated, “Given the nature of the injury to the left eye I have concluded that Mr. Burgess' visual deficit is quite stable and is not degenerative. Thus, he is able to perform sufficiently while operating a commercial vehicle.” Mr. Burgess stated that he has 3 years of experience driving tractor-trailers, totaling 63,000 miles. He holds a Michigan Type CA CDL and has had no accidents or moving violations in a CMV for the past 3 years.

9. William A. Burgoyne

Mr. Burgoyne, 61, has amblyopia in his right eye. His visual acuity is 20/15 best-corrected in the left eye and 20/400 in the left eye. Mr. Burgoyne was examined in 1999 and his optometrist stated, “For the past 19 years we have insisted that Mr. Burgoyne has the visual ability to drive any over the road vehicle. He should be allowed to continue his occupation as a truck driver.” Mr. Burgoyne stated that he has 20 years of experience driving straight trucks, accumulating 3 million miles, and 10 years of experience driving tractor-trailer combinations, accumulating 1.5 million miles. He holds a Michigan Class A NT CDL, and his driving record for the last 3 years contains no accidents and no convictions for moving violations in a CMV.

10. David S. Carman

Mr. Carman, 37, has a large dense scar in the retina of his left eye due to a childhood infection. His visual acuity is 20/15 in his right eye and 20/200 best-corrected in his left eye. His optometrist examined him in 1999 and stated, “In my professional opinion, David Carman has vision sufficient to operate a commercial vehicle.” Mr. Carman reported that he has driven straight trucks for 16 years totaling 320,000 miles. He holds a New Jersey Class B CDL, and his driving record for the last 3 years shows no accidents and one conviction for a moving violation in a CMV for “Failure to Obey Directional Signal.”

11. Dennis J. Christensen

Mr. Christensen, 59, has had amblyopia resulting from anisometropia since birth. His best corrected vision is 20/20 in his left eye and 20/70 in his right eye. Following a 1999 examination, his optometrist stated, “It is my impression that Mr. Christensen has the visual performance to safely operate a commercial vehicle. There are no medical conditions that could compromise his visual performance or visual fields.” Mr. Christensen reported that he has driven tractor-trailer combinations for 3 years, accumulating 300,000 miles. He holds a Minnesota Class A CDL and has had no accidents or convictions for moving violations in a CMV for the past 3 years.

12. David L. Davis

Mr. Davis, 41, has amblyopia in his right eye. His corrected visual acuities are 20/60 in his right eye and 20/20 in his left. Following a 2000 examination, his optometrist commented, “Because Mr. Davis' vision is 20/20 with both eyes open and his visual fields appear to be very good, it is my opinion, according to the findings in my exam, that Mr. Davis has sufficient vision to perform driving tasks required to operate a commercial vehicle.” According to Mr. Davis, he has operated straight trucks for 21 years, accumulating 966,000 miles. A holder of a Class AM CDL from Georgia, he has no accidents or citations for moving violations in a CMV for the last 3 years.

13. Darrell B. Dean

Mr. Dean, 35, is blind in his left eye due to congenital cataracts with apparent glaucoma. His best-corrected vision in the right eye is 20/30. An ophthalmologist examined him in 1999 and stated, “From a visual standpoint, he is able to drive a commercial vehicle.” Mr. Dean reported that he has driven straight trucks for 2 years and for 4,000 miles, and tractor-trailer combinations 12 years for 1.8 million miles. He holds an Oklahoma Class A CDL and has had no CMV accidents or convictions for moving violations for the past 3 years.

14. Don W. Dotson

Mr. Dotson, 45, has amblyopia in his left eye. His visual acuity is 20/20 best-corrected in the right eye and 20/200 in the left eye. Following a 1999 examination, his ophthalmologist stated, “I feel that Mr. Dotson is safe to perform commercial driving tasks and to operate a commercial vehicle.” Mr. Dotson reports that he has operated straight trucks for 5 years, accumulating 157,000 miles, and tractor-trailer combinations for 8 years, accumulating 326,000 miles. He holds a Texas Class A CDL and has no accidents or convictions for moving violations in a CMV on his driving record for the last 3 years.

15. Terrance D. Faust

Mr. Faust, 35, has amblyopia in his right eye. The visual acuity uncorrected in the right eye is 20/60, and in the left eye 20/20. An ophthalmologist examined Mr. Faust in 2000 and affirmed, “It is my medical opinion that you have sufficient visual ability to perform the driving tasks required to operate a commercial vehicle.” According to Mr. Faust's application, he has driven 900,000 miles in straight trucks over 17 years, and 65,000 miles in tractor-trailer combination vehicles over 13 years. He holds a Class ABCDM CDL from Wisconsin. In the last 3 years he has had no accidents or convictions for moving violations in a CMV on his driving record.

16. Edgar E. French

Mr. French, 48, lost his right eye due to trauma approximately 15 years ago. The uncorrected visual acuity in his left eye is 20/20. As the result of an examination in 2000, his optometrist concluded, “As was written in my letter dated 7/17/00, the exam results for the left eye of Mr. Edgar French, in my opinion, do indicate that he can safely operate a commercial vehicle.” Mr. French reports that he has 15 years and 945,000 miles of experience operating straight trucks. He holds a Class B CDL from Virginia, and there are no accidents or convictions for moving violations in a CMV on his driving record for the last 3 years.

17. Glen T. Garrabrant

Mr. Garrabrant, 38, wears a prosthetic right eye due to ocular trauma in 1989. His visual acuity is 20/20 in his left eye. Following a 1999 examination his ophthalmologist stated, “In my opinion I feel that this patient has sufficient vision to perform any driving task required to operate a commercial vehicle.” Mr. Garrabrant reported that he has driven straight trucks for 19 years totaling 1.2 million miles and tractor-trailer combination vehicles for 17 years totaling 1.4 million miles. He holds a New Jersey Class A CDL, and his official driving record shows no CMV accidents or convictions for moving violations during the last 3 years.

18. Doyle G. Gibson

Mr. Gibson, 50, has amblyopia in his right eye. His visual acuity, best-corrected, is 20/70 in the right eye and 20/15 in the left eye. Following a 1999 examination, his ophthalmologist stated, “I am not an expert on the requirements for operating a commercial vehicle. However, based on Mr. Gibson's successful record of driving with his current vision, I see no contraindication to continuing in his current capacity.” Mr. Gibson reported that he has driven straight trucks and tractor-trailer combination vehicles for 30 years each, totaling 2.4 million miles driving straight trucks and 1.5 million miles driving tractor-trailer combination vehicles. He holds a Texas Class AM CDL, and his official driving record shows no CMV accidents or moving violations in the last 3 years.

19. Elias Gomez, Jr.

Mr. Gomez, 28, has amblyopia in his right eye. His visual acuity is 20/20 in his left eye and 20/200 best-corrected in his right eye. Following a 1999 examination, his ophthalmologist stated, “In my medical opinion, he has adequate vision to perform the driving tasks required to operate a commercial vehicle.” Mr. Gomez stated that he has operated tractor-trailer combination vehicles for 3 years and a total of 360,000 miles. He holds a Texas Class A CDL, and his official driving record shows no accidents and one conviction for a moving violation in a CMV for “Fail to Yield Right-of-Way” over the last 3 years.

20. Jose E. Gonzalez

Mr. Gonzalez, 36, has amblyopia in his left eye. An eye exam in 1999 showed that the visual acuity in his right eye is 20/20, and in the left eye 20/200. As a result of the examination, his opthalmologist stated, “It is my opinion that Mr. Gonzalez has sufficient vision to perform the driving tasks required to operate a commercial vehicle.” According to Mr. Gonzalez' application, he has driven straight trucks and tractor-trailer combinations for 15 years, accumulating 75,000 miles in the former and 1.2 million miles in the latter. He holds a Class AM CDL from Texas. In the last 3 years his driving record shows one accident in a CMV and one conviction for speeding in a CMV. The other driver was charged in the accident for “[f]ailed to control speed.” He received the ticket on a separate occasion for exceeding the speed limit by 15 mph.

21. Anthony Grant

Mr. Grant, 37, has decreased vision in his left eye due to an accident in 1992. He was examined in 1999, and his optometrist found visual acuity to be 20/20 corrected in the right eye and 20/400 in the left eye. His optometrist stated, “In my opinion Mr. Grant should be able to drive a commercial vehicle.” Mr. Grant reported that he has driven straight trucks for 7 years and 400,000 miles; tractor-trailer combination vehicles for 3 years and 78,000 miles; and buses for 2 years and 46,000 miles. He holds an Alabama Class D driver's license and has had no convictions for moving violations or accidents in a CMV during the last 3 years.

22. Joseph M. Graveline

Mr. Graveline, 35, has optic atrophy in his right eye due to an eye injury at age 13. His vision in the left eye is 20/20 and in the right eye 20/60. He was examined in 2000, and his optometrist stated, “I believe that Mr. Graveline has sufficient vision to perform driving tasks required to operate a commercial vehicle.” Mr. Graveline reported that he has 4 years and 48,000 miles of experience driving straight trucks. He holds a Connecticut Class A CDL and has had no CMV accidents or convictions for moving violations for the past 3 years.

23. Johnny C. Hall

Mr. Hall, 48, had his left eye enucleated at age 7, after a penetrating injury to the eye. The visual acuity of his right eye is 20/20 without correction. The ophthalmologist who examined him in 2000 stated, “In my opinion, Mr. Hall has adequate vision to perform the driving tasks required to operate a commercial vehicle.” According to his application, he has 20 years and 2.5 million miles experience operating tractor-trailer combinations, and 2 years and 250,000 miles experience operating straight trucks. He has a Florida Class A CDL, and there are no accidents or convictions for moving violations in a CMV on his driving record for the last 3 years.

24. William N. Hicks

Mr. Hicks, 56, wears a prosthetic right eye due to an injury at age 2. He sees 20/25 out of his left eye. An ophthalmologist examined him in 2000 and stated, “I feel that he has sufficient vision in his left eye to meet the conditions for consideration for an exemption under controlling authority to drive a commercial vehicle.” Mr. Hicks stated that he has 34 years of experience driving tractor-trailer combinations with 3.2 million miles driven. He holds a Texas Class A CDL and has had no accidents and two speeding convictions in a CMV during the past 3 years. Mr. Hicks exceeded the speed limit by 11 mph in one ticket and 8 mph in the other.

25. Robert K. Hodge

Mr. Hodge, 43, has had light perception only in his right eye since age 5 due to an injury. His optometrist examined him in 2000 and stated, “I certify, in my opinion, that Kent Hodge has sufficient vision to perform the driving tasks required to operate a commercial vehicle.” Mr. Hodge declared in his application that he has driven straight trucks for 6 years accumulating 72,000 miles, and tractor-trailer combinations for 9 years accumulating 900,000 miles. He holds a Mississippi Class A CDL. During the last 3 years his driving record shows that he has had no accidents or convictions for moving violations in a CMV.

26. William G. Holland

Mr. Holland, 51, has worn a prosthetic left eye for 12 years due to an injury. His visual acuity is 20/15 in his right eye. Following a 2000 examination, his optometrist stated, “It is my medical opinion that Mr. William Holland has vision sufficient to enable him to operate a commercial vehicle.” Mr. Holland reported that he has driven tractor-trailer combination vehicles for 30 years and 3 million miles, and straight trucks for 5 years and 175,000 miles. He holds a California Class A CDL, and his official driving record shows no accidents or convictions for moving violations in a CMV for the past 3 years.

27. John R. Hughes

Mr. Hughes, 58, wears a left prosthesis due to an accident in 1956. The corrected visual acuity in his right eye is 20/20. An optometrist examined him in 2000, and stated, “I certify that in my medical opinion that John Hughes has sufficient vision to operate a commercial vehicle.” Mr. Hughes reported that he has driven 350,000 miles during 7 years in a tractor-trailer, and 50,000 miles during one year in a straight truck. His Class AM CDL is from New York, and his driving record shows no accidents or convictions for moving violations in a CMV for the last 3 years.

28. Frank Inigarida

Mr. Inigarida, 59, has strabismic amblyopia in his right eye. The best-corrected visual acuity of his left eye is 20/20 and his right eye 20/60. Following a 1999 examination, his ophthalmologist certified, “In my medical opinion Mr. Inigarida is able to operate a commercial vehicle while wearing his glasses.” According to Mr. Inigarida's application, he has driven straight trucks for 14 years, accumulating 420,000 miles, and tractor-trailer combination vehicles for 28 years, accumulating 1.4 million miles. He holds a Nevada Class A CDL. His official driving record shows no CMV accidents or convictions for moving violations in the last 3 years.

29. Alan L. Johnston

Mr. Johnston, 27, has occlusional amblyopia in his left eye. His visual acuity is 20/20 in the right eye and 20/400 corrected in the left eye. His optomestrist examined him in 1999, and noted, “P[atien]t sees well enough to operate a commercial vehicle.” Mr. Johnston submitted that he has driven 10,000 miles and has 10 years' experience operating a straight truck, and has driven 180,000 miles and has 6 years' experience operating a tractor-trailer combination. He holds a Class A CDL from Illinois, and for the last 3 years his driving record shows that he has had no accidents or convictions for moving violations in a CMV.

30. David O. Kaiser, Sr.

Mr. Kaiser, 44, has anisometropic amblyopia in his right eye. Best-corrected visual acuity in the right eye is 20/400, and the left eye is 20/20 uncorrected. An optometrist examined him in 1999 and stated, “In my medical opinion, Mr. Kaiser, has a stable condition that is longstanding and will not interfere in his driving ability of a commercial vehicle.” Mr. Kaiser stated that he has 23 years of experience driving tractor-trailer combinations with 1.1 million miles driven. He holds a Virginia Class B CDL and has had no accidents or convictions for moving violations in a CMV for the past 3 years.

31. Milena Kekerovic

Ms. Kekerovic, 47, has amblyopia in her left eye. The visual acuity of her right eye is 20/20 and of her left eye 20/200 without correction. Following an examination in 1999, her ophthalmologist affirmed, “Ms. Kekerovic has sufficient vision to perform the driving tasks required to operate a commercial vehicle.” Ms. Kekerovic submitted that she has driven tractor-trailer combinations for 16 years accumulating 1.9 million miles; and buses for 5 years accumulating 400,000 miles. A holder of a Class A CDL from Nevada, she has no accidents or convictions for moving violations in a CMV on her driving record for the last 3 years.

32. Mark J. Koscinski

Mr. Koscinski, 49, has a congenital retinal coloboma of the left eye. His visual acuity is 20/20 in the right eye and 20/400 in the left eye. An optometrist who examined him in 2000, stated, “I certify in my medical opinion that Mark Koscinski has sufficient vision to perform all driving tasks required to operate a commercial vehicle.” Mr. Koscinski submitted that he has driven 450,000 miles and has 9 years' experience driving tractor-trailer combinations, and has driven 75,000 miles with 5 years' experience driving straight trucks. He holds a Nevada Class A CDL and has no accidents or convictions for moving violations in a CMV on his driving record for the last 3 years.

33. John N. Lanning

Mr. Lanning, 41, has an amblyopic right eye with light perception only. His left eye is correctable to 20/25. An optometrist examined him in 2000 and stated, “As of his last eye exam in January 2000 his vision has remained stable and has not affected his ability to continue to perform his driving tasks operating a commercial vehicle.” Mr. Lanning, who stated that he has driven tractor-trailers for 10 years and 1 million miles, has no accidents or convictions on his driving record for moving violations in a CMV during the last 3 years. He holds a California Class A CDL.

34. Robert C. Leathers

Mr. Leathers, 43, has light perception only in his left eye due to a traumatic injury in 1972. The best-corrected vision in his right eye is 20/20. Following a 1999 examination, his optometrist stated, “In my opinion, Mr. Leathers has been performing driving tasks with the same vision for twenty-seven years. This is evidence that he has sufficient vision to perform the driving tasks required to operate a commercial vehicle.” Mr. Leathers reported that he has driven tractor-trailer combination vehicles for 24 years and 691,000 miles, and straight trucks for 20 years and 70,000 miles. He holds a Missouri Class A CDL, and his official driving record shows no accidents or convictions for moving violations in a CMV for the past 3 years.

35. Richard L. Leonard

Mr. Leonard, 56, has amblyopia and esotropia in his left eye. In his right eye his vision is 20/20 uncorrected, while in his left his vision is 20/400 corrected. He was examined in 2000, and his optometrist certified by checking a box next to the word “Yes” after the question, “Does patient have sufficient vision to operate a commercial vehicle?” Mr. Leonard submitted that he has driven tractor-trailer combinations for 15 years and 1.1 million miles, and straight trucks for 10 years and 150,000 miles. He holds a Texas Class A CDL. His driving record shows that he had no convictions for moving violations and one accident in a CMV in the last 3 years. He was not charged in the accident; the other driver was charged with “Failed to Yield ROW'Stop Intersection.”

36. Calvin E. Lloyd

Mr. Lloyd, 37, has amblyopia as a result of esotropia in his left eye. His best-corrected vision is 20/20 in his right eye and 20/200 in his left. Following a 2000 examination, his ophthalmologist certified, “Mr. Lloyd has been driving commercially for a number of years without incident. His good eye is corrected to 20/20 and he has very good peripheral vision in his amblyopic eye. These facts lead me to believe that there is no visual reason why he cannot perform as a commercial driver.” Mr. Lloyd stated that he has driven straight trucks for 11 years and 330,000 miles, and tractor-trailer combination vehicles for 7 years and 420,000 miles. He holds a Tennessee Class AM CDL, and he has had no CMV accidents or convictions for moving violations in the past 3 years.

37. Roy E. Mathews

Mr. Mathews, 43, lost his right eye due to trauma in 1993. The best-corrected visual acuity of his left eye is 20/20. Following a 1999 examination, his ophthalmologist certified, “Mr. Mathews meets the credentials for a commercial drivers license and currently holds a commercial driver's license. So in my opinion he has sufficient vision to perform the driving task to operate a commercial vehicle.”

Mr. Mathews states that he has driven tractor-trailer combination vehicles for 3 years, accumulating 324,000 miles. He holds a Florida Class A CDL. His official driving record shows no CMV accidents or convictions for moving violations in the last 3 years.

38. Jason B. Mazyck

Mr. Mazyck is a 27-year-old man whose left eye was diagnosed with amblyopia exanopsia, small angle esotropia, posterior staphyloma, and high myopic astigmatism present since birth. His corrected visual acuity is 20/20 in the right eye, and 20/200 in the left eye. An optometrist examined him in 1999 and reported, “In my opinion, Jason's visual system with the improved horizontal field of vision to the left from the contact lens is excellent for safe driving and operating a commercial vehicle.” Mr. Mazyck has a Class D South Carolina driver's license. He stated that he has operated straight trucks for 4 years, accumulating 100,000 miles. His official State driving record shows no accidents or citations for moving violations in a CMV for the past 3 years.

39. William F. McCandless, Jr.

Mr. McCandless, 40, has amblyopia in his left eye. His best-corrected vision is 20/20 in his right eye and light perception only in his left. Following a 1999 examination, his optometrist stated, “His current vision is adequate for semi-tractor trailer driving.” Mr. McCandless reported that he has accumulated 240,000 miles during 16 years of driving tractor-trailer combination vehicles. He holds a Florida Class A CDL. His official State driving record reveals no accidents or citations for moving violations in a CMV for the past 3 years.

40. James T. McGraw Jr.

Mr. McGraw, 42, has refractive amblyopia of the left eye. His visual acuity is 20/20 in the right eye and 20/200 in the left eye. An optometrist examined him in 1999 and stated, “It is clear that James T. McGraw, Jr. has sufficient vision to continue to perform the driving tasks required for a commercial vehicle.” Mr. McGraw stated that he has driven straight trucks 1.1 million miles in 23 years and tractor-trailer combinations 1.1 million miles in 19 years. He holds a Pennsylvania Class A CDL and has had no CMV accidents or convictions for moving violations for the past 3 years.

41. Luther A. McKinney

Mr. McKinney, 44, has amblyopia in his left eye. His vision is 20/20 in the right eye and 20/200 in the left eye. According to a 2000 examination report, Mr. McKinney's optometrist stated, “With consideration to the results of today's examination, I would conclude that the patient has sufficient vision to perform the driving tasks required to operate a commercial vehicle.” Mr. McKinney reported that he has driven tractor-trailer combination vehicles for 21 years and a total of 2.5 million miles. He holds a Virginia Class A CDL. His official driving record shows no accidents or convictions for moving violations in a CMV during the last 3 years.

42. Jose L. Melendez

Mr. Melendez, 57, has a macular scar in his right eye due to an injury at the age of 16. His visual acuity in his left eye is 20/20 and 20/400 in the right. An ophthalmologist examined him in 1999 and stated, “He is visually capable of operating a commercial vehicle, and was also found to be within the State of Illinois requirements of vision to legally drive.” Mr. Melendez reported that he has 5 years of experience driving straight trucks totaling 135,000 miles. He holds an Illinois Class A CDL and has had no CMV accidents or convictions for moving violations for the past 3 years.

43. Carl A. Michel, Sr.

Mr. Michel, 59, has amblyopia in the right eye. His best-corrected visual acuity is 20/20 in his left eye and 20/100 in his right eye. He was examined in 1999, and his ophthalmologist stated, “In my opinion the above person [Carl A. Michel] has sufficient vision to perform driving tasks required to operate a commercial vehicle.” Mr. Michel stated that he has accumulated 4.2 million miles driving straight trucks for 42 years; 2.3 million miles driving tractor-trailer combination vehicles for 30 years; and 30,000 miles driving buses for 30 years. He holds a Maryland Class A CDL. For the past 3 years he has had no accidents or moving violations in a CMV.

44. Clarence M. Miles, Jr.

Mr. Miles, 41, has optic nerve atrophy of the right eye due to an accident at 5 years of age. He has no vision in that eye and 20/20 uncorrected in his other eye. The optometrist who examined him in 1999 stated, “In my medical opinion, this patient has sufficient vision to operate a commercial vehicle.” Mr. Miles states that he has 8 years and 240,000 miles of experience driving straight trucks, and 3 years and 75,000 miles of experience driving tractor-trailer combinations. He holds an Oklahoma Class A CDL, and his driving record for the last 3 years shows no accidents or citations for moving violations in a CMV.

45. Robert A. Moss

Mr. Moss, 34, has amblyopia exanopsia in the left eye. Corrected visual acuities are 20/20 in the right eye and 20/200 in the left. His optometrist examined him in 2000 and determined, “There is no indication that Mr. Moss has insufficient vision to perform the driving tasks required to operate a commercial vehicle.” Mr. Moss stated that he has driven tractor-trailers for 12 years, accumulating 1.2 million miles, and straight trucks for one-half year, accumulating 10,000 miles. He has a Missouri Class A CDL and has a driving record free of convictions for moving violations and accidents in a CMV for the last 3 years.

46. Robert A. Murphy

Since 1980, Mr. Murphy, 54, has had scar tissue on his left eye due to an accident. His best-corrected visual acuity is 20/20 in his right eye and 20/70 in his left eye. In a 2000 examination, his ophthalmologist stated, “In my medical opinion Mr. Murphy has sufficient vision to perform the driving tasks required to operate a commercial vehicle.” According to Mr. Murphy's application, he has operated straight trucks and tractor-trailer combination vehicles for 22 years each, accumulating 160,000 miles and 800,000 miles respectively. He holds a Kentucky Class DA CDL, and his official driving record shows no accidents or convictions for moving violations in a CMV for the last 3 years.

47. Dennis I. Nelson

Mr. Nelson, 48, wears a right prosthesis due to an injury received in childhood. His corrected visual acuity in the left eye is 20/15. An optometrist examined him in 2000 and certified, “In my opinion, Mr. Nelson does have sufficient vision to perform the driving tasks required to operate a commercial vehicle, particularly evidenced by his completely clean driving record for 30 years within the state of Wisconsin using commercial vehicles.” Mr. Nelson reports that he has 30 years and 450,000 miles of experience each driving tractor-trailer combinations and straight trucks. He holds a Class ABCD CDL from Wisconsin and has no accidents or convictions for moving violations in a CMV on his driving record for the last 3 years.

48. Martin D. Ortiz

Mr. Ortiz, 43, has anisometropic amblyopia in his right eye. His best corrected visual acuity is 20/100 in the right eye and 20/20 in the left eye. Mr. Ortiz was examined in 1999, and his optometrist certified, “In my medical opinion, he has sufficient vision to perform the driving tasks to operate a commercial vehicle.” Mr. Ortiz holds a Class A CDL from California, and reported that he has 20 years of experience driving tractor-trailer combination vehicles totaling 1.7 million miles. His driving record has been clear of accidents and convictions of moving violations in a CMV for the past 3 years.

49. John J. Partenio

For the last 30 years, Mr. Partenio, 71, has had a macular scar in his right eye. His corrected visual acuity is 20/20 in the left eye and 20/200 in the right. As the result of a 2000 examination, his optometrist stated, “Mr. [Partenio] has sufficient vision to perform the driving tasks required to operate a commercial vehicle.” Mr. Partenio reported that he has 24 years of experience driving school buses and has driven 100,000 miles. He holds a New Jersey Class B CDL and has had no accidents or convictions for moving violations in a CMV for the past 3 years.

50. Henry C. Patton

Mr. Patton, 63, has amblyopia in his left eye. The corrected visual acuity in his right eye is 20/30++ and in his left, 20/200. Following a 2000 examination, Mr. Patton's optometrist stated, “I further certify, that Mr. Patton, in my medical opinion, has sufficient vision to perform the driving tasks required to operate a commercial vehicle.” Mr. Patton stated that he has 45 years of experience driving tractor-trailer combination vehicles for a total of 2.7 million miles. He holds a Colorado Class A CDL, and his official driving record shows no accidents or convictions for moving violations in a CMV during the last 3 years.

51. Rance A. Powell

Mr. Powell, 30, has a large macular scar due to an injury in his left eye at age 6. His uncorrected vision in his right eye is 20/20, while his vision in his left eye is hand-motion only. Following a 2000 examination, his optometrist stated, “In my medical opinion, the vision deficiency in Mr. Powell's left eye is stable. He has excellent vision in his right eye, therefore I feel he has sufficient vision to perform the driving tasks required to operate a commercial vehicle.” Mr. Powell reported that he has driven straight trucks for 12 years for a total of 180,000 miles. He holds an Alabama Class AMV CDL, and his official driving record shows no accidents and one speeding conviction in a CMV during the last 3 years. He received the ticket for exceeding the speed limit by 11 mph.

52. John W. Purcell

Mr. Purcell, 47, acquired toxoplasmosis in his left eye at age 12. His visual acuity is 20/15 uncorrected in the right eye and 20/400 corrected in the left eye. Mr. Purcell was examined in 2000, and his ophthalmologist certified, “In my medical opinion, Mr. Purcell has full peripheral vision and has sufficient vision to perform the driving tasks required to operate a commercial vehicle.” Mr. Purcell stated that he has 20 years and 320,000 miles of experience operating straight trucks. He holds an Oregon Class C CDL and has had no accidents or convictions for moving violations in a CMV for the past 3 years.

53. Shannon E. Rasmussen

Mr. Rasmussen, 25, has an anisometropia hyperopia that resulted in amblyopia of the left eye. Best-corrected visual acuities measure 20/15-0 in the right eye and 20/50 in the left eye. As the result of a 2000 examination, his optometrist certified, “In my medical opinion, Shannon does have sufficient vision to perform the driving tasks required to operate a commercial vehicle.” Mr. Rasmussen reported that he has driven straight trucks and tractor-trailer combination vehicles for 7 years each, totaling 182,000 miles in the former and 245,000 miles in the latter. He holds a Class A CDL from the State of Wyoming and has no accidents or citations for moving violations in a CMV during the last 3 years.

54. Merlyn L. Rawson

At least 30 years ago, Mr. Rawson, 56, incurred irreversible damage to his left eye. A 2000 examination revealed that his corrected visual acuity is 20/20 in the right eye and 20/400 in the right eye. His optometrist noted, “Vision sufficient to perform driving tasks to operate a commercial vehicle.” Mr. Rawson stated that he has 25 years of experience driving tractor-trailers for a total of 3.7 million miles, and 6 years of experience driving straight trucks for a total of 300,000 miles. He holds an Oregon Class A CDL. During the past 3 years he has had one speeding conviction and one accident in a CMV. He was not charged in the accident and exceeded the speed limit by 12 mph in the speeding ticket.

55. Thomas G. Raymond

Mr. Raymond, 39, has refractive amblyopia in his left eye. His uncorrected visual acuity is 20/20 in the right eye and 20/200 in the left. Following an examination in 2000, his optometrist certified, “In my opinion, Mr. Raymond is fully capable of operating a commercial vehicle.” Mr. Raymond has driven tractor-trailer combination vehicles 910,000 miles in 6½ years. He holds a Class A CDL from Florida, and his driving record shows no accidents or convictions for moving violations in a CMV in the last 3 years.

56. James R. Rieck

Mr. Rieck, 29, has amblyopia in his left eye. The visual acuity in his right eye uncorrected is 20/15-, and in his left eye corrected, 20/400. His optometrist examined him in 1999 and certified, “It is my opinion that Mr. Rieck should have no difficulty performing the driving tasks required to operate a commercial vehicle.” Mr. Rieck has driven tractor-trailer combinations for 4 years, accumulating 144,000 miles, and straight trucks for 9 months, accumulating 14,000 miles. He holds a Class AM1 CDL from California, and his driving record for the last 3 years shows no accidents or convictions for moving violations in a CMV. Although his license was suspended in 1997 for failure to maintain required liability insurance, the State of California set aside (canceled) the action after his insurance company sent proof that he had maintained his insurance.

57. Daniel J. Schaap

Mr. Schaap, 48, has a central scotoma in his left eye due to a toxoplasmosis scar that he has had since early childhood. A 1999 eye exam revealed that his best-corrected visual acuity is 20/20 in the right eye and 20/400 in the left eye. His optometrist stated, “Since all other aspects of his vision are normal, and since his driving record has been good, I believe he meets the visual requirements to operate a commercial vehicle.” Mr. Schaap holds a Michigan Class CA CDL. He reported that he has driven tractor-trailer combinations for 27 years and 749,000 miles. His driving record for the past 3 years reflects no convictions for moving violations and two accidents in a CMV. Mr. Schaap was not found at fault in either accident. The other driver was charged in one accident. The other accident resulted when a retread blew on Mr. Schaap's tractor-trailer and pieces of tread hit another vehicle, breaking its windshield. Mr. Schaap was not charged with a violation in this incident.

58. Dennis J. Smith

Mr. Smith, 25, has refractive amblyopia in his right eye. His uncorrected visual acuity is 20/400 with the right eye and 20/20 with the left eye. In 2000, he underwent an examination by an optometrist who stated, “It is my professional opinion that Mr. Smith has sufficient vision to perform the driving tasks required to operate a commercial vehicle.” According to Mr. Smith, he has driven straight trucks and tractor-trailer combination vehicles for 6 years each, accumulating 78,000 miles in each. He holds a Class A CDL from Colorado, and his driving record shows no accidents or convictions for moving violations in the last 3 years.

59. Garfield A. Smith

Mr. Smith, 52, has anisometropic amblyopia of the left eye. The best-corrected visual acuity is 20/20 in his right eye, and finger counting at 5 feet in his left eye. An optometrist examined him in 2000 and affirmed, “He does have sufficient vision to perform the driving tasks required to operate a commercial vehicle.” According to Mr. Smith's application, he has driven straight trucks for 5 years, accumulating 50,000 miles, and tractor-trailer combinations for 30 years, accumulating 3 million miles. He holds a WV Class A CDL, and his driving record is clear of accidents and convictions for moving violations in a CMV during the last 3 years.

60. Gary L. Spelce

Mr. Spelce, 55, has hyperopia with astigmatism; presbyopia; and amblyopia in his left eye. His corrected visual acuity in the right eye is 20/20 and in the left eye, 20/50. Following a 1999 examination, his optometrist stated, “It is my optometric opinion that Mr. Spelce has sufficient vision to drive a commercial vehicle.” Mr. Spelce stated that he has driven straight trucks for 20 years and 624,000 miles, and tractor-trailer combination vehicles for 10 years and 1 million miles. He holds a Texas Class AM CDL, and his official driving record shows no accidents or convictions for moving violations in a CMV for the last 3 years.

61. Frederick E. St. John

Mr. St. John is 42 years old and lost his left eye at age 7 due to an accident. His best-corrected vision in the right eye is 20/20. Following a 1999 examination, his optometrist stated, “In my opinion and in view of the fact that Fred has been driving a truck for 22 years (according to him) safely, Fred has sufficient vision to drive and operate a commercial vehicle.” According to Mr. St. John, he has 22 years experience driving tractor-trailer trucks totaling 2.6 million miles. He has a Pennsylvania Class A CDL, and his driving record shows no accidents and one conviction for a moving violation of “FT Obey Sign/Traffic Control Device” in a CMV for the past 3 years.

62. Daniel R. Viscaya

Mr. Viscaya, 38, has been completely blind in his left eye since birth secondary to amblyopia and a dense post-subcapsular cataract. His right eye sees 20/20 and requires no correction. Subsequent to an examination in 2000, his optometrist certified, “It is my medical opinion that Mr. Viscaya's visual function is adequate to operate a commercial vehicle.” Mr. Viscaya stated that he has driven tractor-trailer combination vehicles for 4½ years, accumulating 567,000 miles. He holds a Class A CDL from North Carolina and has had no accidents or convictions for moving violations in a CMV for the last 3 years, according to his driving record.

63. Michael P. Walsh

Mr. Walsh, 41, is amblyopic in his right eye. His visual acuity with correction is 20/20 in the left eye and 20/200 in the right. He was examined in 2000, and his optometrist certified, “In my opinion the patient has sufficient vision to perform the driving tasks required to operate a commercial vehicle.” Mr. Walsh submitted that he has operated straight trucks for 20 years and 1 million miles, and tractor-trailer combinations for 10 years and 520,000 miles. He holds a Class A XT CDL from Michigan. His driving record for the last 3 years shows no convictions for moving violations and one accident in a CMV. He was not charged in the accident. According to the accident report, the other driver crossed the middle double lines on a curve and struck Mr. Walsh's vehicle.

64. Jerry L. Whitefield

Mr. Whitefield, 49, has amblyopia in his left eye. The best-corrected vision in his right eye is 20/15, and in his left eye, 20/70. Following an examination in 2000, his optometrist stated, “I will certify that his right eye has sufficient vision to perform the driving tasks required to operate a commercial vehicle.” Mr. Whitefield submitted that he has operated tractor-trailer combination vehicles for 29 years, accumulating 2.9 million miles, and straight trucks for 4 years, accumulating 200,000 miles. He holds a Class A CDL from Oklahoma, and his driving record for the last 3 years contains no accidents or convictions for moving violations in a CMV.

65. Robert E. Wientjes

Mr. Wientjes, 59, has best-corrected vision in the right eye of 20/20 and the left eye 20/400. His left eye has had a central corneal scar since 1985. Following a 2000 examination, his ophthalmologist stated, “As Mr. Wientjes” vision has not changed in a number of years, I feel he has sufficient vision to operate a commercial vehicle, which he has done up until now.” Mr. Wientjes reported that he has driven tractor-trailer combination vehicles for 30 years and a total of 1.1 million miles. He holds a Kentucky Class DA CDL. His driving record for the last 3 years shows no accidents or convictions for moving violations in a CMV.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may publish in the Federal Register a notice of final determination at any time after the close of the comment period. In addition to late comments, the FMCSA will also continue to file in the docket relevant information which becomes available after the closing date. Interested persons should continue to examine the docket for new material.

Authority: 49 U.S.C. 322, 31136 and 31315; and 49 CFR 1.73.

Issued on: October 30, 2000.
Clyde J. Hart, Jr.,
Acting Deputy Administrator, Federal Motor Carrier Safety Administration.

[FR Doc. 00-28204 Filed 11-2-00; 8:45 am]

BILLING CODE 4910-EX-P